DEPARTMENT OF STATE

[Public Notice 4382]

Bureau of Educational and Cultural Affairs Request for Grant Proposals: Grants Competition for Political Leadership, Education, Small Business Development, and Disability Issues for the Near East, North Africa, and South Asia

Summary: The Office of Citizen Exchanges of the Bureau of Educational and Cultural Affairs announces a Grants Competition designed to promote Political Leadership, Education, Disability Awareness, and Small Business Development, with priority given to proposals that address these themes as they relate to women. U.S.-based public and private non-profit organizations meeting the provisions described in Internal Revenue Code, U.S.C. Title 26, Section 501(c)(3) may submit proposals that support international projects in the United States and overseas involving current or potential leaders. ECA seeks organizations that are interested in developing grassroots linkages and international exchanges in the Near East, North Africa, and South Asia.

Programs should be designed so that the exchanges will operate on two levels: (1) They should enhance institutional partnerships between U.S. organizations and partner organizations in the region, improving the institutional capacity of the partner organizations, and (2) they should offer practical information and useful materials to enable the partners to share skills and practical experience after the grant period is over.

We anticipate awarding six to twenty grants as a result of this competition, depending on the types and number of proposals received and pending availability of FY04 funds. More than one award may be made in some areas of focus and no awards may be made in others. Grant awards will range from $60,000 to $200,000.

ECA encourages new organizations that have not received previous bureau funding to apply; however, grants awarded to eligible organizations with less than four years of experience as an incorporated non-profit entity conducting international exchange programs will be limited to $60,000.

Applicants must submit a comprehensive budget for the entire program. All proposals should present evidence of cost sharing, in cash or kind, representing at least 50% of the amount requested. For example, an organization requesting $150,000 should demonstrate the ability to provide at least an additional $75,000 in allowable cost sharing.

Program Information

Overview

The Office of Citizen Exchanges of the Bureau of Educational and Cultural Affairs (ECA) consults with and supports American public and private nonprofit organizations in developing and implementing multi-phased, often multi-year exchanges of professionals, community leaders, scholars and academics, public policy advocates, etc. These exchanges address issues of critical importance to both the United States and to the countries with which the exchanges will be conducted. They encourage substantive and cooperative interaction among counterparts, and they entail both theoretical and experiential learning for all participants. A primary goal is the development of sustained, international institutional and individual linkages. In addition to providing a context for professional development and collaborative problem-solving, these projects are intended to introduce participants to one another's political, social, and economic structures, facilitating improved communication and enhancing mutual understanding. Two-way exchange travel is encouraged.

This competition is based on the premise that people-to-people exchanges focused on the enhancement of human capacity and the encouragement and strengthening of democratic initiatives nurture the social, political, and economic development of society. Priority will be given to proposals that address program themes as they relate to women.

Applicants should carefully review the following recommendations for proposals. Given budgetary considerations, projects in countries and for themes other than those listed will not be eligible for consideration and will be ruled technically ineligible. The themes listed below are important to the Office of Citizen Exchanges, but no guarantee is made or implied that grants will be made in all categories.

The countries/entities comprising the Near East/North Africa (NEA) and South Asia (SA) regions are listed below. Currently there is no U.S. mission in Iran, Iraq, or Libya. Please consider countries and specific themes listed below as guides to potential exchange partnerships. But note that all themes may be appropriate for single country, multi-country or regional proposals.

Countries/Entities of the Near East and North Africa (NEA)—Algeria; Bahrain; Egypt; Iran; Iraq; Israel; Jordan; Kuwait; Lebanon; Libya; Morocco; Oman; Qatar; Saudi Arabia; Syria; Tunisia; the United Arab Emirates (UAE); the West Bank and Gaza; Yemen.

Countries of South Asia (SA)—Afghanistan; Bangladesh; Bhutan; India; the Maldives; Nepal; Pakistan; Sri Lanka.

The Office of Citizen Exchanges solicits proposals for exchange projects that address one or more of the following priority themes:

Program Themes

1. Political Leadership

Proposals should focus on promoting political leadership by (1) strengthening the capacity of grassroots organizations in developing the skills of current and future political leaders, and (2) compiling a repertoire of skills and practical materials in the local language for use in workshops, mock elections and campaigns, educational sessions, or other activities. Proposals must indicate a practical knowledge of the political and legislative environment in the partner country. Projects may include, but are not limited to, components listed above and may also include the following: “Workshops for Political Leaders,” “Political Awareness Campaigns” and “NGO Management,” as described below.

Workshops for Political Leaders might include such topics as public speaking, message development, leadership, campaign management, accountability and constituencies, consensus building, lobbying, surveying, polling, advocacy, voter outreach, networking, working with the media, and fundraising. Mock campaigns and elections are encouraged.

Political Awareness Campaigns should provide education on the democratic political process and get participants actively involved in the political arena. Awareness campaigns should be jointly conducted with partner organizations, and should reach the widest possible audience in large and small cities, towns and villages.

NGO Management. Part of the program design may also include workshops on NGO management and capacity building, for NGOs whose work is linked to emerging or enhanced political leadership. NGO workshop topics might include: Strategic planning, managing volunteers, coalition building, public relations, facilitation training, peer education & outreach, public-private partners, information management, and website development.

2. Promoting Educational Opportunities

The proposal should focus on exchanges and training for grassroots educational and community leaders. Priority will be given to proposals that engage organizations and individuals who are actively involved in developing or supporting strategies that promote increased formal and informal educational opportunities for women and girls. Emphasis should be on providing essential tools and support to educators for classes and leadership activities. Potential topics for activities include, but are not limited to, creating & reconstructing educational opportunities, teaching methodology & practice, curriculum development, the role of women & girls in society, leadership, civic responsibility, mentoring, conflict resolution, health education, and social issues. This competition is NOT designed for youth exchanges and is NOT intended to provide substantive teacher training.Only adult professionals or grassroots practitioners may be selected to travel internationally for exchange activities. Individual university students may only take part in pilot sessions and in-country educational activities.

3. Small Business Development

Projects should foster the development of local businesses in the partner country and create ongoing international partnerships. Priority will be given to proposals that seek to encourage women's entrepreneurship and develop women's managerial skills. Project components in the U.S. or overseas, with examples of possible topics, include: Seminars for those considering micro-enterprise (e.g. entrepreneurship, management, finance and registration issues); workshops (start-up, loan packages, marketing, staff training, appropriate technology); site visits (chambers of commerce, local governments, business associations, small business resource centers); mentoring; consultancies; internships; job-shadowing; or other activities. Note: Micro-loans are NOT permitted for these grants.

4. Disability Awareness

Projects should focus on engaging disability NGOs and institutions; individuals with disabilities; and leaders in both the disability community and the community at large. The intent should be to improve opportunities and expand services for the disabled. Projects should seek to involve victims of civil wars and acts of terrorism where appropriate. Possible themes include: Professional and occupational training, accessibility issues, community involvement and public relations, association building, NGO management, leadership, entrepreneurship, and dealing with psychological trauma. Projects may be designed to cover a range of topics and/or methods, or may focus intensively on a specific area.

Project Guidelines

Applicants should state expected goals and objectives in the proposal narrative and describe a clear and convincing plan for carrying out project components. Bureau-supported exchanges may include internships; study tours; short-term, non-technical experiential learning, extended and intensive workshops and seminars taking place in the United States or overseas. Examples of possible program activities might include:

1. A U.S.-based program that includes: Orientation to program purposes and to U.S. society; study tour/site visits; professional internships/placements; interaction and dialogue; hands-on training; professional development; and action plan development.

2. Capacity-building/training-of-trainer (TOT) workshops to help participants to identify priorities, create work plans, share and strengthen professional and volunteer skills, share their experience to committed people within each country, and become active in a practical and valuable way.

3. Seed/small grants to indigenous non-profit organizations to support community-based educational projects that build upon exchange activities and that address issues of local concern. Proposals may include a component for a Seed/Small Grants Competition (often referred to as ‘sub-grants’ or `secondary grants'). This requires a detailed plan for recruitment and advertising; description of the proposal review and award mechanism; a plan for how the grantee would monitor and evaluate small grant activity; and a proposed amount for an average grant. The small grants should be directly linked to exchange activities. Small/seed grants may not be used for micro-credit or re-loaning purposes. Small/seed grants may not exceed 10% of the total value of the grant funds sought from ECA.

4. Site visits by U.S. facilitators/experts to monitor projects in the region and to provide additional training and consultations as needed.

5. Content-based Internet training/ cyber-training to encourage citizenparticipation in workshops, fora, chats, and/or discussions via the Internet that will stimulate communication and information sharing among key opinion leaders on priority topics as a form of cost sharing. Proposals that include Internet utilization must reflect knowledge of the opportunities and obstacles that exist for use of information technologies in the target country or countries, and, if needed, provide hardware, software and servers, preferably as a form of cost sharing. Federal standards are under review and their adoption may impact on the implementation of these programs.

This program is not academic in nature. The Office of Citizen Exchanges encourages applicants to be creative and innovative in planning projects. Activities may combine elements of skill enrichment, theoretical orientation, and experiential, community-based initiatives.

Partner organizations should be identified in the proposal, with project plans developed collaboratively by both the American and foreign partners. Applicants who have not yet confirmed local partners, but whose proposals show significant regional and thematic expertise, will still be eligible to apply. Projects funded under this competition should enhance relationships among American and foreign organizations and achieve lasting and sustainable results.

Eligibility: Public and private nonprofit organizations meeting the provisions described in Internal Revenue Code section 26 U.S.C. 501(c)(3) may submit proposals in response to this Request for Grant Proposals.

Selection of Participants

Proposals should include a description of an open, merit-based participant selection process for all international exchange components or any other component requiring participant selection. All grant proposals should clearly describe the type of persons who will participate in the program. A draft application and a sample announcement used for recruitment advertising should be included. It is recommended that for programs including U.S. internships, grant applicants submit letters tentatively committing host institutions to support the internships. For travel to the U.S., priority should be given to foreign participants who have not previously traveled to the United States.

Public Affairs Section Involvement: The Public Affairs Sections of U.S. Embassies play an important role in project review and implementation. They evaluate project proposals, coordinate planning with grantee organizations and in-country partners, nominate participants and vet grantee nominations, facilitate and observe in-country activities, debrief participants, and evaluate project impact.

Applicants should expect to work closely with the relevant U.S. Embassy Public Affairs Section in selecting participants, with Embassies retaining the right to nominate participants and to advise the grantee regarding participants recommended by other entities. Public Affairs Sections must approve all foreign participants who will travel internationally. They will assist foreign participants in obtaining the necessary J-1 visas for entry into the United States with Department of State sponsorship. Though project administration and implementation are the responsibility of the grantee, the grantee is expected to inform the Public Affairs Section of its operations and procedures and to coordinate with and involve Public Affairs officers in the development of project activities. The Public Affairs Section should be consulted regarding country priorities, political and cultural sensitivities, current security concerns, and related logistic and programmatic issues.

When participants are selected, grantee institutions will provide the names of American participants and brief biographical data (two pages) on each American participant to the Office of Citizen Exchanges for information purposes. (See section below on requirements for maintenance of and provision to ECA of data on participants and program activities.)

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If the applicant has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

Program Data Requirements

Organizations awarded grants will be required to maintain specific data on program participants and activities in an electronically accessible database format that can be shared with the Bureau of Educational and Cultural Affairs as required. As a minimum, the data must include the following:

Name, address, contact information and biographic sketch of all persons who travel internationally on funds provided by the grant or who benefit from the grant funding but do not travel.

Itineraries of international and domestic travel, providing dates of travel and cities in which any exchange experiences take place.

Budget Guidelines and Cost-Sharing Requirements

Grant awards to eligible entities will range from $170,000 to $200,000. Grants awarded to eligible organizations that have been registered for less than four years will be limited to $60,000. Applicants must submit a comprehensive budget for the entire program, including program budget, administrative budget, and summary budget. Budget notes should be included. Applicants may provide separate sub-budgets for each program component, phase, location, or activity to provide clarification.

All proposals should present evidence of cost sharing, in cash or kind, representing at least 50% of the amount requested. For example, an organization requesting $150,000 should demonstrate the ability to provide at least an additional $75,000 in cost sharing. Allowable costs include the following:

(1) Direct Program Expenses

These include general program expenses (e.g., orientation and program-related supplies, educational materials, traveling campaigns, consultants, interpreters, and room rental) and participant program expenses (e.g., domestic and international travel and per diem).

(2) Administrative Program Expenses

These may include salaries, telephone/fax charges, and other direct administrative costs.

Please refer to the Solicitation Package for complete budget guidelines and formatting instructions. Instructions for downloading the Solicitation Package are provided below.

Announcement Title and Number

All correspondence with the Bureau concerning this RFGP should reference the above title and number: ECA/PE/C/NEA-AF-04-02.

To Download a Solicitation Package Via Internet

The entire Solicitation Package (Request for Grant Proposal and Proposal Submission Instructions) may be downloaded from the Bureau's Web site: http://exchanges.state.gov/education/rfgps.

Please read all information before downloading. If you are unable to download the Solicitation Package from the Department of State ECA website, you may request a copy, which contains required application forms, specific budget instructions, and standard guidelines for proposal preparation, from the Office of Citizen Exchanges.

FOR FURTHER INFORMATION, CONTACT: Office of Citizen Exchanges, ECA/PE/C/NEA-AF, U.S. Department of State, 301 Fourth St., SW., Room 216, Washington, DC 20547, Attention: Susan Krause, Telephone Number: (202) 619-5320, Fax: (202) 619-4350, Internet E-mail Address: skrause@pd.state.gov.

Organizations planning to submit proposals are strongly encouraged to contact the program office for consultation. Before doing so, applicants should read the complete Federal Register announcement and be ready to discuss a concrete concept specific to the guidelines set forth in this request for grant proposals (RFGP). Once the deadline for submission of proposals has passed, Bureau staff may not discuss this competition with applicants until the proposal review process has been completed.

Deadline for Submission of Proposals

Applicants must follow all instructions in the Solicitation Package. The original and ten (10) copies of the proposal should be sent to: U.S. Department of State, Bureau of Educational and Cultural Affairs, Program Management, ECA/EX/PM, SA-44 Room 534, 301 Fourth St., SW., Washington, DC 20547, Ref.: ECA/PE/C/NEA-AF-04-02.

All proposal copies must be received at the Bureau of Educational and Cultural Affairs by 5 p.m. Washington, DC time on August 15, 2003. Faxed documents will not be accepted at any time. Documents postmarked by the deadline date but received on a later date will not be accepted. Each applicant must ensure that proposals are received by the above deadline.

Applicants must also submit the “Executive Summary” and “Proposal Narrative,” and “Budget” sections of the proposal on a 3.5″ diskette, formatted for DOS. These documents must be provided in ASCII text (DOS) format with a maximum line length of 65 characters. ECA will transmit these files electronically to reviewers including the Public Affairs Sections of relevant U.S. Embassies. Again, once the deadline for submission has passed, Bureau staff may not discuss this competition in any way with applicants until the proposal review process has been completed.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. The program office and the Public Diplomacy section at the U.S. Embassy will review all eligible proposals. Other Embassy elements may be asked to review proposals as well. Eligible proposals will be subject to compliance with Federal and Bureau regulations and guidelines and forwarded to Bureau grant panels for advisory review. Proposals may also be reviewed by the Office of the Legal Advisor or by other Department elements. Final funding decisions are at the discretion of the Department of State's Assistant Secretary for Educational and Cultural Affairs, pending availability of FY04 funds. Final technical authority for grants resides with the Bureau's Grants Officer.

Review Criteria

Technically eligible applications will be competitively reviewed according to the criteria stated below. These criteria are not rank ordered and all carry equal weight in the proposal evaluation.

1. Quality of the Program Idea: Proposals should be substantive, well thought out, focused on issues of demonstrable relevance to all proposed participants, and responsive, in general, to the exchanges suggestions and guidelines described above.

2. Implementation Plan and Ability to Achieve Objectives: A detailed project implementation plan should establish a clear and logical connection between the interest, the expertise, and the logistical capacity of the applicant and the objectives to be achieved. The proposal should discuss, in concrete terms, how the institution plans to achieve the objectives. Institutional resources—including personnel—assigned to the project should be adequate and appropriate. The substance of workshops and site visits should be included as an attachment, and the responsibilities of the U.S. participants and in-country partners should be clearly described.

3. Institution's Record/Ability: Proposals should include an institutional record of successful exchange programs, with reference to responsible fiscal management and full compliance with reporting requirements. The Bureau will consider the demonstrated potential of new applicants and will evaluate the performance record of prior recipients of Bureau grants as reported by the Bureau grant staff.

4. Follow-On Activities: Proposals should provide a plan for sustained follow-on activity, building on the linkages developed under the grant and the activities initially funded by the grant. Follow-on activities should continue after grant funds have been expended, ensuring that Bureau-supported projects are not isolated events.

5. Project Evaluation and Monitoring: Proposals must include a plan and methodology to evaluate the program's successes and challenges. In general, evaluation should be ongoing and evolving throughout the duration of the project. The evaluation plan will incorporate an assessment of the program from a variety of perspectives. Specifically, project assessment efforts will focus on: (a) Determining if objectives are being met or have been met, (b) identifying any unmet needs, and (c) assessing if the project has effectively discovered resources, advocates, and financial support for sustainability of future projects. Informal evaluation through discussions and other sources of feedback will be carried out throughout the duration of the project. Formal evaluation will be conducted at the end of each phase, using instruments designed specifically to measure the impact of the activities and should obtain participants' feedback and comments on the program content and administration. A draft questionnaire for evaluation purposes may be attached to support the proposal. A detailed evaluation should be conducted at the conclusion of the project and the report will be submitted to the Department of State Bureau of Educational and Cultural Affairs. When possible, the evaluation should be done by an independent evaluator.

6. Impact: Proposed projects should, through the establishment of substantive, sustainable individual and institutional linkages and the encouragement of maximum exchange of information, enhance communities and societies.

7. Cost Effectiveness and Cost Sharing: Administrative costs should be kept to a minimum. Proposals should maximize cost sharing through support and in-kind contributions from the U.S. and partner organization(s).

8. Support of Diversity: Proposals should demonstrate substantive support of ECA's policy on diversity. Program content (orientation, evaluation, program sessions, resource materials, follow-on activities) and program administration (selection, orientation, evaluation) should address diversity in a comprehensive and relevant manner. Applicants should refer to ECA's Diversity, Freedom, and Democracy Guidelines on page four of the Proposal Submission Instructions.

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal Bureau procedures.

Dated: June 5, 2003.
C. Miller Crouch,
Principal Deputy Assistant Secretary, Bureau of Educational and Cultural Affairs, Department of State.

[FR Doc. 03-15528 Filed 6-18-03; 8:45 am]

BILLING CODE 4710-05-P